Title 3—

The President

Memorandum of October 3, 2008

Designation of Officers of the Office of the Director of National Intelligence to Act as Director of National Intelligence

Memorandum for the Director of National Intelligence

By the authority vested in me as President by the Constitution and the laws of the United States of America, including the Federal Vacancies Reform Act of 1998, 5 U.S.C. 3345 et seq.,

it is hereby ordered that:

Section 1. Subject to the provisions of sections 2 and 3 of this memorandum, the following officers of the office of the Director of National Intelligence, in the order listed, shall act as and perform the functions and duties of the office of the Director of National Intelligence (DNI), during any period in which the DNI and the Principal Deputy Director of National Intelligence have died, resigned, or otherwise become unable to perform the functions and duties of the office of the DNI, until such time as the DNI or the Principal Deputy Director is able to perform the functions and duties of the office of DNI:

(a) Director of the Intelligence Staff;

(b) Deputy Director of National Intelligence for Policy, Plans, and Requirements;

(c) Deputy Director of National Intelligence for Analysis;

(d) Deputy Director of National Intelligence for Collection;

(e) Director of the National Counterterrorism Center; and

(f) National Counterintelligence Executive.

Sec. 2. National Security Act of 1947. This memorandum shall not supersede the authority of the Principal Deputy Director of National Intelligence to act for, and exercise the powers of, the Director of National Intelligence during the absence or disability of the Director of National Intelligence or during a vacancy in the position of Director of National Intelligence (National Security Act of 1947, as amended, 50 U.S.C. 403-3a).

Sec. 3. Exceptions. (a) No individual who is serving in an office listed in section 1 in an acting capacity, by virtue of so serving, shall act as DNI pursuant to this memorandum.

(b) No individual listed in section 1 shall act as DNI unless that individual is otherwise eligible to so serve under the Federal Vacancies Reform Act of 1998.

(c) Notwithstanding the provisions of this memorandum, the President retains discretion, to the extent permitted by law, to depart from this memorandum in designating an acting DNI.

Sec. 4. This memorandum supersedes the President's memorandum of December 20, 2005 (Designation of Officers of the Office of the Director of National Intelligence to Act as Director of National Intelligence).

Sec. 5. This memorandum is intended to improve the internal management of the executive branch and is not intended to, and does not, create any right or benefit, substantive or procedural, enforceable at law or in equity by any party against the United States, its agencies, instrumentalities, or entities, its officers, employees, or agents, or any other person.

Sec. 6. You are authorized and directed to publish this memorandum in the Federal Register.

THE WHITE HOUSE,

Washington, October 3, 2008

[FR Doc. E8-23954

Filed 10-7-08; 8:45 am]

Billing code 3910-A7-M